DEPARTMENT OF ENERGY

Federal Energy Regulatory Commission

Combined Notice of Filings #1

Take notice that the Commission received the following electric corporate filings:

Docket Numbers: EC16-189-000.

Applicants: American Transmission Company LLC.

Description: Application of American Transmission Company LLC for Authority to Acquire Certain Facilities Under Section 203 of the FPA.

Filed Date: 9/23/16.

Accession Number: 20160923-5371.

Comments Due: 5 p.m. ET 10/14/16.

Docket Numbers: EC16-190-000.

Applicants: James River Genco, LLC, City Point Energy Center, LLC.

Description: Application for Authorization Under Section 203 of the Federal Power Act and Request for Expedited Action of James River Genco, LLC, et al.

Filed Date: 9/23/16.

Accession Number: 20160923-5372.

Comments Due: 5 p.m. ET 10/14/16.

Take notice that the Commission received the following electric rate filings:

Docket Numbers: ER16-1335-002.

Applicants: PJM Interconnection, L.L.C.

Description: Compliance filing: Compliance filing to 8/26/2016 order in Docket No. ER16-1335-000, -001 to be effective 8/26/2016.

Filed Date: 9/26/16.

Accession Number: 20160926-5212.

Comments Due: 5 p.m. ET 10/17/16.

Docket Numbers: ER16-2659-000.

Applicants: Grant Plains Wind, LLC.

Description: Baseline eTariff Filing: Application for MBR Authority and Initial Baseline Tariff Filing of Grant Plains to be effective 11/1/2016.

Filed Date: 9/23/16.

Accession Number: 20160923-5319.

Comments Due: 5 p.m. ET 10/14/16.

Docket Numbers: ER16-2659-001.

Applicants: Grant Plains Wind, LLC.

Description: Tariff Amendment: Amendment of Application and Initial Tariff Baseline Filing of Grant Plains Wind to be effective 11/1/2016.

Filed Date: 9/23/16.

Accession Number: 20160923-5333.

Comments Due: 5 p.m. ET 10/14/16.

Docket Numbers: ER16-2660-000.

Applicants: Southwest Power Pool, Inc.

Description: § 205(d) Rate Filing: Schedule 1-A Tariff Administration Charge to be effective 1/1/2017.

Filed Date: 9/23/16.

Accession Number: 20160923-5320.

Comments Due: 5 p.m. ET 10/14/16.

Docket Numbers: ER16-2661-000.

Applicants: Pacific Gas and Electric Company.

Description: § 205(d) Rate Filing: Bay Area Rapid Transit District Interconnection Agreement (SA 323) to be effective 1/1/2017.

Filed Date: 9/23/16.

Accession Number: 20160923-5321.

Comments Due: 5 p.m. ET 10/14/16.

Docket Numbers: ER16-2662-000.

Applicants: Midcontinent Independent System Operator, Inc.

Description: Annual Calculation of the Cost of New Entry value (“CONE”) for each Local Resource Zone (“LRZ”) in the MISO Region of Midcontinent Independent System Operator, Inc.

Filed Date: 9/23/16.

Accession Number: 20160923-5380.

Comments Due: 5 p.m. ET 10/14/16.

Docket Numbers: ER16-2663-000.

Applicants: Alterna Springerville LLC.

Description: Tariff Cancellation: cancellation filing to be effective 9/26/2016.

Filed Date: 9/26/16.

Accession Number: 20160926-5138.

Comments Due: 5 p.m. ET 10/17/16.

Docket Numbers: ER16-2664-000.

Applicants: LDVF1 TEP LLC.

Description: Tariff Cancellation: cancellation filing to be effective 9/26/2016.

Filed Date: 9/26/16.

Accession Number: 20160926-5139.

Comments Due: 5 p.m. ET 10/17/16.

Docket Numbers: ER16-2665-000.

Applicants: NRG Power Midwest LP.

Description: § 205(d) Rate Filing: Revised Rate Schedule and Request for Consolidation to be effective 11/1/2016.

Filed Date: 9/26/16.

Accession Number: 20160926-5143.

Comments Due: 5 p.m. ET 10/17/16.

Docket Numbers: ER16-2667-000.

Applicants: Deerfield Wind Energy, LLC.

Description: Baseline eTariff Filing: Application for Market Based Rate to be effective 10/7/2016.

Filed Date: 9/26/16.

Accession Number: 20160926-5150.

Comments Due: 5 p.m. ET 10/17/16.

Docket Numbers: ER16-2667-001.

Applicants: Deerfield Wind Energy, LLC.

Description: Tariff Amendment: Amendment to Application for MBR to be effective 10/7/2016.

Filed Date: 9/26/16.

Accession Number: 20160926-5213.

Comments Due: 5 p.m. ET 10/17/16.

Docket Numbers: ER16-2668-000.

Applicants: Arizona Public Service Company.

Description: § 205(d) Rate Filing: Rate Schedule No. 217, Exhibit B's to be effective 11/26/2016.

Filed Date: 9/26/16.

Accession Number: 20160926-5184.

Comments Due: 5 p.m. ET 10/17/16.

Take notice that the Commission received the following public utility holding company filings:

Docket Numbers: PH16-14-000.

Applicants: UGI Corporation.

Description: UGI Corporation submits FERC 65-B Waiver Notification, et al.

Filed Date: 9/23/16.

Accession Number: 20160923-5379.

Comments Due: 5 p.m. ET 10/14/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 26, 2016.
Nathaniel J. Davis, Sr.,
Deputy Secretary.

[FR Doc. 2016-23843 Filed 9-30-16; 8:45 am]

BILLING CODE 6717-01-P